DEPARTMENT OF THE INTERIOR

Bureau of Indian Affairs

Draft Environmental Impact Statement for the Proposed Spokane Tribe of Indians West Plains Casino and Mixed Use Project, City of Airway Heights, Spokane County, WA

AGENCY: Bureau of Indian Affairs, Interior.

ACTION: Notice of availability.

SUMMARY: This notice advises the public that the Bureau of Indian Affairs intends to file a draft environmental impact statement with the U.S. Environmental Protection Agency for the Spokane Tribe of Indians West Plains casino and mixed use project, City of Airway Heights, Spokane County, Washington. The draft statement is now available for public review and BIA will hold a public hearing to receive comments on the mixed use project.

DATES: Submit written comments by April 16, 2012. The public hearing will be held on March 26, 2012, starting at 6 p.m. and will run until the last public comment is received.

ADDRESSES: You may mail or hand deliver written comments to Mr. Stanley Speaks, Northwest Regional Director, Bureau of Indian Affairs, Northwest Region, 911 Northeast 11th Avenue, Portland, Oregon 97232.

The public hearing will be held at the Sunset Elementary School Gymnasium, 12824 West 12th Avenue, Airway Heights, Washington 99001.

FOR FURTHER INFORMATION CONTACT: Dr. B.J. Howerton, Bureau of Indian Affairs, Northwest Region, 911 Northeast 11th Avenue, Portland, Oregon 97232; fax (503) 231-2275; phone (503) 231-6749.

SUPPLEMENTARY INFORMATION: Public review of the draft environmental impact statement (DEIS) is part of the administrative process for evaluating tribal applications seeking a two-part determination from the Secretary of the Interior under Section 20 of the Indian Gaming Regulatory Act (25 U.S.C. 2719(b)(1)(B)). Under Council on Environmental Quality National Environmental Policy Act (NEPA) regulations (40 CFR 1506.10), the publication of this notice of availability in the Federal Register initiates a 45-day public comment period.

Background

The Spokane Tribe of Indians (Tribe) has requested that the Secretary of the Interior issue a two-part determination under Section 20 of the Indian Gaming Regulatory Act for Class III gaming on 145 acres held in Federal trust for the Tribe near the City of Airway Heights, Washington. The 145-acre project is located immediately west of the city limits of Airway Heights in the unincorporated West Plains area of Spokane County, Washington.

The proposed project consists of the following components: (1) Issuance of a two-part determination by the Secretary of the Interior; and (2) development of a casino-resort facility, parking structure, site retail, commercial building, tribal cultural center, and police/fire station within the project site. At full build-out, the proposed casino-resort facility would have approximately 98,442 square feet of gaming floor and a 300-room hotel.

The following alternatives are considered in the DEIS: (1) Proposed casino and mixed-use development; (2) reduced casino and mixed-use development; (3) non-gaming mixed-use development; and (4) no action/no development. Environmental issues addressed in the DEIS include geology and soils, water resources, air quality, biological resources, cultural and paleontological resources, socioeconomic conditions (including environmental justice), transportation and circulation, land use, public services, noise, hazardous materials, aesthetics, cumulative effects, and indirect and growth inducing effects.

BIA issues the DEIS as lead agency, with the Spokane Tribe of Indians, National Indian Gaming Commission, Washington State Department of Transportation, City of Airway Heights, Spokane County, Federal Aviation Administration, and U.S. Department of the Air Force serving as cooperating agencies. BIA held a public scoping meeting for the project on September 16, 2009, in the City of Airway Heights, Washington.

Directions for Submitting Comments

Please include your name, return address, and the caption: “DEIS Comments, Spokane Tribe of Indians West Plains Development Project,” on the first page of your written comments.

Locations Where the DEIS Is Available for Review

The DEIS will be available for review at the Airway Heights Branch of the Spokane County Library District, located at 1213 South Lundstrom St. Airway Heights, Washington 99001 and the Spokane Public Library, located at 906 West Main Street, Spokane, Washington 99201. The DEIS is also available online at: http://www.westplainseis.com.

To obtain a compact disk copy of the DEIS, please provide your name and address in writing or by voice mail to Dr. B.J. Howerton, whose contact information is listed in the FOR FURTHER INFORMATION CONTACT section of this notice. Individual paper copies of the DEIS will be provided upon payment of printing expenses by the requestor for the number of copies requested.

Public Comment Availability

Comments, including names and addresses of respondents, will be available for public review at the BIA mailing address shown in the ADDRESSES section of this notice, during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published under § 1503.1 of the Council of Environmental Quality Regulations (40 CFR parts 1500 through 1508) and § 46.305 of the Department of the Interior Regulations (43 CFR part 46), implementing the procedural requirements of the National Environmental Policy Act of l969, as amended (42 U.S.C. 4371, et seq.), and is in the exercise of authority delegated to the Assistant Secretary—Indian Affairs by 209 DM 8.

Dated: February 17, 2012.
Larry Echo Hawk,
Assistant Secretary—Indian Affairs.

[FR Doc. 2012-4803 Filed 3-1-12; 8:45 am]

BILLING CODE 4310-W7-P